DEPARTMENT OF VETERANS AFFAIRS

[OMB Control No. 2900-0618]

Agency information Collection Activity: Application by Insured Terminally Ill Person for Accelerated Benefits

AGENCY: Veterans Benefits Administration, Department of Veterans Affairs.

ACTION: Notice to withdraw.

SUMMARY: On June 22, 2018, the Department of Veterans Affairs (VA) erroneously posted a consecutive 30-day Federal Register Notice (Application by Insured Terminally Ill Person for Accelerated Benefits) Document Number: 2018-13397; OMB control number: 2900-0618.

FOR FURTHER INFORMATION CONTACT: Cynthia Harvey-Pryor, Enterprise Records Service (005R1B), Department of Veterans Affairs, 810 Vermont Avenue NW, Washington, DC 20420, at 202-461-5870.

Correction

VA wishes to inform the public that it is withdrawing FR Document Number: 2018-13397, 83 FR 29155. This was a duplicate 30-day Public Notice published in error. The correct and initial 30-day Notice posted May 24, 2018, Volume 83, No. 101, page 24163, FR Document Number: 2018-11131, which has since concluded.

Dated: June 26, 2018.
By direction of the Secretary.
Cynthia D. Harvey-Pryor,
Department Clearance Officer, Office of Quality, Privacy and Risk, Department of Veterans Affairs.

[FR Doc. 2018-14104 Filed 6-29-18; 8:45 am]

BILLING CODE 8320-01-P